DEPARTMENT OF ENERGY

Federal Energy Regulatory Commission

[Docket No. CP98-717-001]

El Paso Natural Gas Company; Notice of Application

April 4, 2000.

Take notice that on March 28, 2000, El Paso Natural Gas Company (El Paso), Post Office Box 1492, El Paso, Texas 79978, filed an application in Docket No. CP98-717-001, pursuant to Section 7(b) of the Natural Gas Act and Rule 215 of the Commission's Regulations, requesting the Commission to amend the authorization to abandon facilities granted by the Commission's order issued January 15, 1999 at Docket No. CP98-717-000, all as more fully described in the application on file with the Commission and open to public inspection. This filing may be viewed on the web at http://www.ferc.fed.us/online/rims.htm (call 202-208-2222 for assistance).

El Paso states that in the January 15, 1999 order, the Commission granted El Paso permission and approval to abandon, by removal, to the extent practicable, three segments totaling approximately 49.16 miles, of El Paso's 12¾″ O.D. El Paso-Douglas Loop Line (Line No. 1005), with appurtenances, located in Dona Ana and Luna Counties, New Mexico, Also, in the January 15, 1999 order, the Commission directed El Paso to file monthly status reports to describe the abandonment activities, including whether pipe was abandoned by removal or in place. El Paso has filed three status reports on January 12, February 11, and March 13, 2000.

El Paso further states that, as set forth in El Paso's application and responses to data requests filed in Docket No. CP98-717-000, El Paso intended to abandon the segments of pipeline by removal to the extent practicable since there may be certain areas where it is deemed more practicable to abandon the pipeline in place. El Paso indicated that areas where it may be necessary to abandon in place: pipeline underlying agricultural land; canal and drain crossings; road crossings; railroad crossings; or any area where the landowner specifies abandonment in place.

El Paso states that in the status report filed February 11, 2000, El Paso informed the Commission that El Paso had determined it was more practicable to abandon most of the pipe by transfer to El Paso's affiliate. El Paso Energy Communications (EPECC) for use as fiber optics conduit.

By letter dated March 8, 2000, the Office of Energy Projects directed El Paso to file an application seeking an amendment to its Section 7(b) authorization to reflect the new proposal for abandonment of the three segments of Line No. 1005 totaling 49.16 miles. Accordingly, El Paso is requesting amended abandonment authorization for approximately 44.0 miles of Line No. 1005 by transfer to EPECC for use as fiber optics conduit. The remaining portion of such line consisting of approximately 5.16 miles will be abandoned in place.

Any person desiring to be heard or to make any protest with reference to said application should on or before April 25, 2000, file with the Federal Energy Regulatory Commission, 888 First Street, N.E., Washington, D.C. 20426, a motion to intervene or a protest in accordance with the requirements of the Commission's Rules of Practice and Procedure (18 CFR 385.211 and 385.214) and the Regulations under the Natural Gas Act (18 CFR 157.10). All protests filed with the Commission will be considered by it in determining the appropriate action to be taken but will not serve to make the protestants parties to the proceeding. The Commission's Rules require that protestors provide copies of their protests to the party or parties against whom the protests are directed. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filings it makes with the Commission to every other intervenor in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in the subject to the jurisdiction conferred upon the Federal Energy Regulatory Commission by Sections 7 and 15 of the Natural Gas Act and the Commission's Rules and Practice and Procedure, a hearing will be held without further notice before the Commission or its designee on this application is no motion to intervene is filed within the time required herein, if the Commission on its own review of the matter finds that the requested abandonment is required by the public convenience and necessity. If a motion for leave to intervene is timely filed, or if the Commission on its own motion believes that a formal hearing is required, further notice of such hearing will be duly given.

Under the procedure herein provided for, unless otherwise advised, it will be unnecessary for El Paso to appear or be represented at the hearing.

Linwood A. Watson, Jr.,
Acting Secretary.

[FR Doc. 00-8751 Filed 4-7-00; 8:45 am]

BILLING CODE 6717-01-M